DEPARTMENT OF THE TREASURY

Internal Revenue Service

Advisory Group to the Internal Revenue Service Tax Exempt and Government Entities Division (TE/GE); Meeting

AGENCY: Internal Revenue Service (IRS), Treasury.

ACTION: Notice.

SUMMARY: The Advisory Committee on Tax Exempt and Government Entities (ACT) will hold a public meeting on Wednesday, June 13, 2007.

FOR FURTHER INFORMATION CONTACT: Steven J. Pyrek, Director, TE/GE Communications and Liaison; 1111 Constitution Ave., NW.; SE:T:CL—Penn Bldg; Washington, DC 20224. Telephone: 202-283-9966 (not a toll-free number). E-mail address: Steve.J.Pyrek@irs.gov.

SUPPLEMENTARY INFORMATION: By notice herein given, pursuant to section 10(a)(2) of the Federal Advisory Committee Act, 5 U.S.C. App. (1988), a public meeting of the ACT will be held on Wednesday, June 13, 2007, from 9 a.m. to 2 p.m., at the Internal Revenue Service; 1111 Constitution Ave., NW.; Room 3313; Washington, DC. Issues to be discussed relate to Employee Plans, Exempt Organizations, and Government Entities.

Reports from five ACT subgroups cover the following topics:

• Indian Tribal Governments: Review of Voluntary Self-Compliance Program for Indian Tribal Governments.

• Exempt Organizations: A Proposal for an Exempt Organizations Voluntary Compliance Program.

• Tax-Exempt Bonds: After the Bonds Are Issued: Then What?

• Employee Plans: Improving Compliance for Adopters of Pre-approved Plans.

• Federal, State and Local Governments: A Prototype for Public Sector Defined Contribution Plans.

• Federal, State and Local Governments: Public Employers' Withholding and Reporting for Non-Resident Alien Taxation.

Last minute agenda changes may preclude advance notice. Due to limited seating and security requirements, attendees must call Cynthia PhillipsGrady to confirm their attendance.

Ms. PhillipsGrady can be reached at (202) 283-9954. Attendees are encouraged to arrive at least 30 minutes before the meeting begins to allow sufficient time for security clearance. Picture identification must be presented. Please use the main entrance at 1111 Constitution Ave., NW., to enter the building.

Should you wish the ACT to consider a written statement, please call (202) 283-9966, or write to: Internal Revenue Service; 1111 Constitution Ave., NW.; SE:T:CL-Penn Bldg; Washington, DC 20224, or e-mail Steve.J.Pyrek@irs.gov

Dated: May 14, 2007.
Steven J. Pyrek,
Designated Federal Official, Tax Exempt and Government Entities Division.

[FR Doc. E7-9880 Filed 5-22-07; 8:45 am]

BILLING CODE 4830-01-P